DEPARTMENT OF THE INTERIOR

Bureau of Land Management

[AZ-330-05-1232-EA, AZ-SRP-330-05-01 and AZ-SRP-330-05-02]

Temporary Closure of Selected Public Lands in La Paz County, Arizona, During the Operation of the 2005 Parker 425 Desert Race

AGENCY: Bureau of Land Management, Interior.

ACTION: Notice.

SUMMARY: The Bureau of Land Management Lake Havasu Field Office announces the temporary closure of selected public lands under its administration in La Paz County, Arizona. This action is being taken to help ensure public safety and prevent unnecessary environmental degradation during the officially permitted running of the 2005 Blue Water Resort and Casino Parker 425 Desert Race. Areas subject to this closure include all public land, including county maintained roads and highways located on public lands, that are located within two miles of the designated racecourse. The racecourse and closure areas are described in the SUPPLEMENTARY INFORMATION section of this notice, and maps of the designated racecourse are maintained in the Bureau of Land Management Lake Havasu Field Office, 2610 Sweetwater Avenue, Lake Havasu City, AZ 86406.

DATES: Blue Water Resort and Casino Parker 425 on February 5, 2005.

FOR FURTHER INFORMATION CONTACT: Bryan Pittman, Field Staff Law Enforcement Ranger, BLM Lake Havasu Field Office, 2610 Sweetwater Avenue, Lake Havasu City, Arizona 86406, (928) 505-1200.

SUPPLEMENTARY INFORMATION: Description of Race Course Closed Area: Beginning at the eastern boundary of the Colorado River Indian Tribe (CRIT) Reservation, it runs east along Shea Road, then east along the Parker-Swansea Road to the Central Arizona Project Canal (CAP), then north on the west side of the CAP Canal, crossing the canal on the county-maintained road, running northeast into Mineral Wash Canyon, then southeast on the county-maintained road, through the four-corners intersection to Midway, then east on Transmission Pass Road, through State Trust lands located in Butler Valley, turning north into Cunningham Wash to North Tank; continuing back south to the Transmission Pass Road and east (reentering public land) within two miles of Alamo Dam Road. Turns south and west onto the wooden power line road, onto the State Trust lands in Butler Valley, turning southwest into Cunningham Wash to the Graham Well, intersecting Butler Valley Road, then north and west onto public lands proceeding west to the “Bouse Y” intersection, located two miles north of Bouse, Arizona. The route then proceeds north, paralleling the Bouse-Midway Road to the Midway Pit. From Midway, it goes west on the north boundary road of the East Cactus Plain Wilderness Area to Parker-Swansea Road. The route then goes west in Osborne Wash, south of the Parker-Swansea Road to the CAP Canal, along the north boundary of the Cactus Plain Wilderness Study Area, staying in Osborne Wash, it proceeds west in Osborne Wash to the CRIT Reservation boundary.

Times of the Temporary Land Closure: The Blue Water Resort and Casino Parker 425 Desert Race closure is in effect from 2 p.m. (m.s.t.) on Friday, February 4, 2005, through 11:59 p.m. (m.s.t.) on Saturday, February 5, 2004.

Prohibited Acts

The following acts are prohibited during the temporary land closure:

1. Being present on, or driving on, the designated racecourse. This does not apply to race participants, race officials and emergency vehicles.

2. Vehicle parking or stopping in areas affected by the closure, except where such is specifically allowed (designated spectator areas).

3. Camping in any area, except in the designated spectator areas.

4. Discharge of firearms.

5. Possession or use of any fireworks.

6. Cutting or collecting firewood of any kind, including dead and down wood or other vegetative material.

7. Operating any vehicle (except registered race vehicles), including off-highway vehicles, not registered and equipped for street and highway operation.

8. Operating any vehicle in the area of the closure at a speed of more than 35 mph. This does not apply to registered race vehicles during the race, while on the designated racecourse.

9. Failure to obey any official sign posted by the Bureau of Land Management, LaPaz County, or the race promoter.

10. Parking any vehicle in a manner that obstructs or impedes normal traffic movement.

11. Failure to obey any person authorized to direct traffic, including law enforcement officers and designated race officials.

12. Failure to observe Spectator Area quiet hours of 10 p.m. to 6 a.m.

13. Failure to keep campsite or race viewing site free of trash and litter.

14. Allowing any pet or other animal to be unrestrained by a leash of not more than 6 feet in length.

The above restrictions do not apply to emergency vehicles and vehicles owned by the United States, the State of Arizona, or La Paz County. Authority for closure of public lands is found in 43 CFR part 8340, subpart 8341; 43 CFR part 8360, subpart 8364.1; and 43 CFR part 2930. Persons who violate this closure order are subject to arrest, and upon conviction may be fined not more than $100,000 and/or imprisoned for not more than 12 months.

Robert M. Henderson,
Acting Field Manager, Lake Havasu Field Office.

[FR Doc. 05-731 Filed 1-12-05; 8:45 am]

BILLING CODE 4310-32-P